DEPARTMENT OF TRANSPORTATION

Federal Aviation Administration

Notice of Intent to Rule on Request To Release Airport Property at the Pueblo Memorial Airport, Pueblo, Colorado

AGENCY: Federal Aviation Administration, (FAA), DOT.

ACTION: Notice of request to release airport property.

SUMMARY: The FAA proposes to rule and invite public comment on the release and sale of a 12.56 acre parcel of land at the Pueblo Memorial Airport.

DATES: Comments are due within 30 days of the date of the publication of this notice in the Federal Register. Emailed comments can be provided to Mr. John Sweeney, Lead Planner, Denver Airports District Office, john.sweeney@faa.gov, (303) 342-1263.

FOR FURTHER INFORMATION CONTACT: Mr. Greg Pedroza, Director of Aviation, Pueblo Memorial Airport, 31201 Bryan Circle, Pueblo, CO 81001, gpedroza@pueblo.us, (719) 553-2744; or John Sweeney, Lead Planner, Denver Airports District Office, 26805 E. 68th Ave. Suite 224, Denver, CO, 80249, john.sweeney@faa.gov, (303) 342-1263. Documents reflecting this FAA action may be reviewed at the above locations.

SUPPLEMENTARY INFORMATION: The FAA invites public comment on the request to release non-aeronautical property at the Pueblo Memorial Airport under the provisions of 49 U.S.C. 47107(h)(2). The proposal consists of 12.56 acres of land located on the Southwest side of the airport, shown as Parcel 12 on the Airport Layout Plan. The parcel lies inside the Pueblo Memorial Airport Industrial Park, North of William White Blvd. The FAA concurs that the parcel is no longer needed for airport purposes. The proposed use of this property is compatible with existing airport operations in accordance with FAA's Policy and Procedures Concerning the Use of Airport Revenue, as published in the Federal Register on February 16, 1999.

Issued in Denver, Colorado on April 25, 2023.
John P. Bauer,
Manager, Denver Airports District Office.

[FR Doc. 2023-09270 Filed 5-1-23; 8:45 am]

BILLING CODE 4910-13-P